DEPARTMENT OF HEALTH AND HUMAN SERVICES

National Institutes of Health

Proposed Collection; Comment Request; the Ethical Problems Encountered by Nurses and Social Workers: Implications for Job Satisfaction and Retention

SUMMARY: In compliance with the requirement of section 3506(c)(2)(A) of the Paperwork Reduction Act of 1995, for opportunity for public comment on proposed data collection projects, the Department of Clinical Bioethics, the National Institutes of Health (NIH) will publish periodic summaries of proposed projects to be submitted to the Office of Management and Budget (OMB) for review and approval.

Proposed Collection: Title: The Ethical Problems Encountered by Nurses and Social Workers: Implications for Job Satisfaction and Retention. Type of Information Collection Request: new. Need and Use of Information Collection: The purposes of the study are (1) to identify common ethical problems experienced by nurses and social workers in health care settings; (2) to identify the relationships between selected individual and organizational factors and perceptions of ethical stress, job satisfication and retention; and (3) to identify the availability of ethics support services. The findings will provide valuable information concerning: (1) The extent to which ethical problems and stress are contributing to a shortage of health care providers; (2) the importance of ethics related content in nurses' and social workers' education; and (3) the importance of ethics support services. Frequency of Response: Once. Affected Public: Individuals; academic institutions; business or other for-profit; not-for-profit organizations. Type of Respondents: Registered nurses and social workers. The annual reporting burden is as follows: Estimated Number of Respondents: 2,700; Estimated Number of Responses per Respondent: 1; Average Burden Hours Per Response: .33; and Estimated Total Annual Burden Hours Requested: 891. The annualized cost to respondents is estimated at: $59,400. There are no capital costs to report. There are no operating or maintenance costs to report.

Request for Comment: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) minimize the burden of the collection of information on those who are to respond, including the use of appropriate automated, electronic, mechanical, or other technological collection techniques or other forms of information technology.

FOR FURTHER INFORMATION CONTACT: To request more information on the proposed project or to obtain a copy of the data collection plans, contact Connie Ulrich, RN, PhD, Principal Investigator, Department of Clinical Bioethics, Warren G. Magnuson Clinical Center, Building 10, Room 1C118, Bethesda, MD 20892, or call non-toll-free number (301) 451-8338 or E-mail your request, including your address to: culrich@cc.nih.gov.

Comments Due Date: Comments regarding this information collection are best assured of having their full effect if received within 60 days of the date of this publication.

Dated: January 9, 2003.
David K. Henderson,
Deputy Director, Warren G. Magnuson Clinical Center, National Institutes of Health.
Ezekiel Emanuel,
Director, Department of Clinical Bioethics, Warren G. Magnuson Clinical Center, National Institutes of Health.

[FR Doc. 03-938 Filed 1-15-03; 8:45 am]

BILLING CODE 4140-01-M